DEPARTMENT OF COMMERCE

Foreign-Trade Zones Board

[S-107-2019]

Foreign-Trade Zone 61—San Juan, Puerto Rico; Application for Subzone; HP International Trading B.V. (Puerto Rico Branch), LLC; Aguadilla, Puerto Rico

An application has been submitted to the Foreign-Trade Zones (FTZ) Board (the Board) by the Puerto Rico Trade and Export Company, grantee of FTZ 61, requesting subzone status for the facility of HP International Trading B.V. (Puerto Rico Branch), LLC, located in Aguadilla, Puerto Rico. The application was submitted pursuant to the provisions of the Foreign-Trade Zones Act, as amended (19 U.S.C. 81a-81u), and the regulations of the Board (15 CFR part 400). It was formally docketed on June 12, 2019.

The proposed subzone (60 acres) is located at Highway 110, Km. 28, Aguadilla, Puerto Rico. No authorization for production activity has been requested at this time. The proposed subzone would be subject to the existing activation limit of FTZ 61.

In accordance with the Board's regulations, Camille Evans of the FTZ Staff is designated examiner to review the application and make recommendations to the Executive Secretary.

Public comment is invited from interested parties. Submissions shall be addressed to the Board's Executive Secretary and sent to: ftz@trade.gov. The closing period for their receipt is July 29, 2019. Rebuttal comments in response to material submitted during the foregoing period may be submitted during the subsequent 15-day period to August 12, 2019.

A copy of the application will be available for public inspection in the “Reading Room” section of the Board's website, which is accessible via www.trade.gov/ftz.

For further information, contact Camille Evans at Camille.Evans@trade.gov or (202) 482-2350.

Dated: June 13, 2019.
Andrew McGilvray,
Executive Secretary.

[FR Doc. 2019-12846 Filed 6-17-19; 8:45 am]

BILLING CODE 3510-DS-P